GENERAL SERVICES ADMINISTRATION

[Notice-MA-2017-04; Docket 2017-0002; Sequence No. 10]

Federal Management Regulation; Effective Federal Warehousing-Notification, Federal Warehousing and Storage of Assets

AGENCY: Office of Government-Wide Policy (OGP), General Services Administration (GSA).

ACTION: Notice of FMR Bulletin B-44, Federal warehousing and storage of assets.

SUMMARY: GSA's OGP is providing guidance on Federal warehousing and the storage of assets through FMR Bulletin B-44. FMR Bulletin B-44 summarizes the industry-leading perspectives obtained through the development of international standards. This Bulletin provides an overview of considerations for agencies as they plan for acquiring warehousing space and throughout the life-cycle of the warehouse.

In addition to addressing the warehouse facility itself, the FMR Bulletin B-44 discusses the contents of the warehouse, with the idea that if the contents can be reduced, the need for warehousing facilities can also be reduced concomitantly. FMR Bulletin B-44 and all FMR Bulletin may be accessed at https://www.gsa.gov/fmrbulletins.

DATES: Effective: July 13, 2017.

FOR FURTHER INFORMATION CONTACT: Mr. Robert Holcombe, Director, Personal Property Policy Division, Office of Asset and Transportation, OGP, at 202-501-3828, or robert.holcombe@gsa.gov. For further information of Real Property policy, please contact Aluanda Drain, Director, Real Property Policy Division, Office of Asset and Transportation, OGP, at 202-501-1624, or aluanda.drain@gsa.gov.

SUPPLEMENTARY INFORMATION: The General Accountability Office (GAO) Report 15-41, Federal Real Property; Strategic Focus Needed to Help Manage Vast and Diverse Warehouse Portfolio, published in November 2014, recommends GSA provide guidance and best practices to make its collective Federal warehousing activities more efficient. GSA and other Federal agencies participated in the development of two international ASTM (previously known as the American Society for Testing and Materials) standards addressing warehousing assets to gain widespread input and visibility to provide the best guidance possible.

OMB Circular A-119, Federal Participation in the Development and Use of Voluntary Consensus Standards and in Conformity Assessment Activities, published in January 27, 2016, requires agencies to follow collaboratively-developed Voluntary Consensus Standards (such as those produced by ASTM) in lieu of Government-unique or Government-promulgated standards, except in limited situations, such as where a specific standard or process is required by law.

GSA notes that these ASTM standards are protected by copyright, and cannot be shared with this Bulletin. This protection of intellectual property is addressed within Circular A-119 as a necessary part of developing such consensus standards. Each agency has a Standards Executive who can coordinate the provision of needed standards within the agency.

Dated: July 5, 2017.
Allison Brigati,
Associate Administrator, Office of Government-wide Policy, General Services Administration.

[FR Doc. 2017-14736 Filed 7-12-17; 8:45 am]

BILLING CODE 6820-14-P